DEPARTMENT OF EDUCATION

[Docket No.: ED-2021-SCC-0006]

Agency Information Collection Activities; Comment Request; Higher Education Emergency Relief Fund (HEERF) Improper Payments Information Form

AGENCY: Department of Education (ED), Office of Postsecondary Education (OPE).

ACTION: Notice.

SUMMARY: In accordance with the Paperwork Reduction Act of 1995, ED is requesting the Office of Management and Budget (OMB) to conduct an emergency review of a new information collection.

DATES: The Department is requesting emergency processing and OMB approval for this information collection by January 13, 2021; and therefore, the regular clearance process is hereby being initiated to provide the public with the opportunity to comment under the full comment period. Interested persons are invited to submit comments on or before March 15, 2021.

ADDRESSES: To access and review all the documents related to the information collection listed in this notice, please use http://www.regulations.gov by searching the Docket ID number ED-2021-SCC-0006. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Karen Epps, 202-453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Emergency Relief Fund (HEERF) Improper Payments Information Form.

OMB Control Number: 1840-NEW.

Type of Review: A new information collection.

Respondents/Affected Public: Private Sector; State, Local, and Tribal Governments.Total Estimated Number of Annual Responses: 5,138.

Total Estimated Number of Annual Burden Hours: 5,138.

Abstract: Under the CARES Act's Higher Education Emergency Relief Fund (HEERF), the Department has made over 12,000 awards to institutions of higher education (IHEs) to support emergency financial aid to students and institutional costs associated with significant changes to the delivery of instruction due to the coronavirus. This form will be used by institutions that have improperly drawn down funds from their award accounts to provide the Department with information regarding funds being returned to correct these improper payments.

Additional Information: An emergency clearance approval for the use of the system is described below due to the following conditions: Under the current unprecedented national health emergency, Congress and the President have come together to offer relief to those individuals and industries affected by the COVID-19 virus under the Coronavirus Aid, Relief, and Economic Security Act or the CARES Act. Under the CARES Act's Higher Education Emergency Relief Fund (HEERF), the U.S. Department of Education (the Department) has made over 12,000 awards to institutions of higher education (IHEs) to support emergency financial aid to students and institutional costs associated with significant changes to the delivery of instruction due to the coronavirus. In the course of monitoring these grant awards, the Department has determined that over 700 IHEs have improperly drawn down funds from their award accounts, totaling over $202 million in funds that must now be returned. Furthermore, during the time that these funds have been drawn down, grantees are earning additional interest in excess of the $500 annual cap prescribed by 2 CFR 200.305(b) of the Uniform Guidance. The Department is concerned that this excess interest, without an expeditious inventory and response by our grantees, may be difficult to account. Therefore, in order to process the return of these funds more efficiently and prevent any further earnings beyond the interest cap, we are requesting emergency approval of a short form that will allow the grantee to provide the Department with information regarding the funds being returned.

Dated: January 8, 2021.
Kate Mullan,
PRA Coordinator, Strategic Collections and Clearance Governance and Strategy Division, Office of Chief Data Officer.

[FR Doc. 2021-00571 Filed 1-13-21; 8:45 am]

BILLING CODE 4000-01-P